DEPARTMENT OF COMMERCE

Foregin-Trade Zones Board

[Docket 12-2002]

Foreign-Trade Zone 28—New Bedford, MA; Application for Subzone Status; Brittany Dyeing & Printing Corporation, (Textile Finishing)

An application has been submitted to the Foreign-Trade Zones Board (the Board) by the City of New Bedford, grantee of FTZ 28, requesting special-purpose subzone status for the textile finishing plant of Brittany Dyeing & Printing Corporation (Brittany), located in New Bedford, Massachusetts. The application was submitted pursuant to the provisions of the Foreign-Trade Zones Act, as amended (19 U.S.C. 81a-81u), and the regulations of the Board (15 CFR part 400). It was formally filed on February 7, 2002.

The Brittany plant (3 acres/226,000 sq.ft.) is located at 1357 Rodney French Boulevard in the city of New Bedford, Massachusetts. The facility (247 employees) is used to process customer-owned textile fabrics for the U.S. market and export. In this activity, foreign, quota-class woven fabrics (HTSUS 5208.11.20, .40, .80; 5208.12.40, .60, .80; 5209.11.00) would be admitted to the zone under privileged foreign status (19 CFR 146.41) in greige form to be dyed, printed, and finished using domestic dyes and chemicals. The finishing activity may involve shrinking, sanferizing, desizing, sponging, bleaching, cleaning/laundering, calendaring, hydroxilating, decatizing, fulling, mercerizing, chintzing, moiring, framing/beaming, stiffening, weighting, crushing, tubing, thermofixing, anti-microbial finishing, shower proofing, flame retardation, and embossing of customer-owned fabric. The finished privileged foreign status fabric would either be exported from the proposed subzone or be transferred for Customs entry under its original textile quota and HTS classifications (no activity would be permitted that would result in transformation, tariff shift, or change in quota class or country of origin), with appropriate duty assessment and quota decrement.

FTZ procedures would exempt Brittany from Customs duty payments on the foreign fabric processed for re-export. On shipments for the U.S. market, full duty payment would be deferred until the fabric is transferred from the zone for Customs entry. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-4100W, 1401 Constitution Ave., NW., Washington, DC 20230.

The closing period for their receipt is April 16, 2002. Rebuttal comments in response to material submitted during the foregoing period may be submitted during the subsequent 15-day period (to May 1, 2002).

A copy of the application will be available for public inspection at the Office of the Foreign-Trade Zones Board's Executive Secretary at address No.1 listed above and at the U.S. Department of Commerce Export Assistance Center, Suite 307, World Trade Center, 164 Northern Avenue, Boston, MA 02210.

Dated: February 7, 2002.
Dennis Puccinelli,
Executive Secretary.

[FR Doc. 02-3812 Filed 2-14-02; 8:45 am]

BILLING CODE 3510-DS-P